DEPARTMENT OF COMMERCE

International Trade Administration

[A-762-001]

Silicon Metal From Angola: Preliminary Affirmative Determination of Sales at Less Than Fair Value; Correction

AGENCY: Enforcement and Compliance, International Trade Administration, Department of Commerce.

ACTION: Notice; correction.

SUMMARY: The U.S. Department of Commerce (Commerce) published notice in the Federal Register of September 30, 2025, in which Commerce issued its affirmative preliminary determination in this antidumping duty (AD) investigation. This notice corrects the end date of the period of investigation (POI) listed in that notice.

FOR FURTHER INFORMATION CONTACT: Christopher Doyle, AD/CVD Operations, Office IX, Enforcement and Compliance, International Trade Administration, U.S. Department of Commerce, 1401 Constitution Avenue NW, Washington, DC 20230; telephone: (202) 482-5882.

SUPPLEMENTARY INFORMATION:

Background

On September 30, 2025, Commerce published in the Federal Register its Preliminary Determination in this AD investigation.¹ We incorrectly listed the end date of the POI as March 30, 2025, instead of March 31, 2025.

¹ See Silicon Metal from Angola: Preliminary Affirmative Determination of Sales at Less Than Fair Value, 90 FR 46810 (September 30, 2025) (Preliminary Determination).

Correction

In the Federal Register of September 30, 2025, in FR Doc 2025-18982, on page 46810, in the first column, replace the date March 30, 2025, with March 31, 2025.

Notification to Interested Parties

This determination is issued and published in accordance with sections 733(f) and 777(i)(1) of the Tariff Act of 1930, as amended and 19 CFR 351.205(c).

Dated: November 19, 2025.
Christopher Abbott,
Deputy Assistant Secretary for Policy and Negotiations, performing the non-exclusive functions and duties of the Assistant Secretary for Enforcement and Compliance.

[FR Doc. 2025-20735 Filed 11-21-25; 8:45 am]

BILLING CODE 3510-DS-P